DEPARTMENT OF COMMERCE

National Telecommunications and Information Administration

[Docket No. 180821780-8780-01]

RIN 0660-XC043

Developing the Administration's Approach to Consumer Privacy

AGENCY: National Telecommunications and Information Administration, U.S. Department of Commerce.

ACTION: Notice; extension of comment period.

SUMMARY: On September 26, 2018, the National Telecommunications and Information Administration (NTIA) on behalf of the U.S. Department of Commerce published a notice and request for public comments on ways to advance consumer privacy while protecting prosperity and innovation. Through this notice, NTIA is extending the deadline for comments from October 26, 2018, until November 9, 2018.

DATES: Comments must be received by 11:59 p.m. Eastern Standard Time on November 9, 2018.

ADDRESSES: Written comments may be submitted by email to privacyrfc2018@ntia.doc.gov. Comments submitted by email should be machine-searchable and should not be copy-protected. Written comments also may be submitted by mail to the National Telecommunications and Information Administration, U.S. Department of Commerce, 1401 Constitution Avenue NW, Room 4725, Attn: Privacy RFC, Washington, DC 20230. Responders should include the name of the person or organization filing the comment, as well as a page number, on each page of their submissions. All comments received are a part of the public record and will generally be posted to http://www.ntia.doc.gov/privacyrfc2018 without change. All personal identifying information (e.g., name, address) voluntarily submitted by the commenter may be publicly accessible. Do not submit Confidential Business Information or otherwise sensitive or protected information. NTIA will also accept anonymous comments.

FOR FURTHER INFORMATION CONTACT: Travis Hall, National Telecommunications and Information Administration, U.S. Department of Commerce, 1401 Constitution Avenue NW, Room 4725, Washington, DC 20230; Telephone: (202) 482-3522; Email: thall@ntia.doc.gov. For media inquiries: Anne Veigle, Director, Office of Public Affairs, National Telecommunications and Information Administration, U.S. Department of Commerce, 1401 Constitution Avenue NW, Room 4897, Washington, DC 20230; telephone: (202) 482-7002; email: press@ntia.doc.gov.

SUPPLEMENTARY INFORMATION: On behalf of the U.S. Department of Commerce, the National Telecommunications and Information Administration (NTIA) published a notice seeking public comments on ways to advance consumer privacy while protecting prosperity and innovation. See NTIA, Developing the Administration's Approach to Consumer Privacy, Notice; Request for Public Comments, 83 FR 48600 (Sept. 26, 2018). The original deadline for submission of comments was October 26, 2018. With this notice, NTIA announces that the closing deadline for submission of comments is extended until November 9, 2018. All other information in the original notice remains unchanged.

Dated: October 4, 2018.
Kathy Smith,
Chief Counsel.

[FR Doc. 2018-22041 Filed 10-10-18; 8:45 am]

BILLING CODE 3510-60-P